FEDERAL COMMUNICATIONS COMMISSION

47 CFR Part 73

[MB Docket Nos. 01-229 and 01-231; RM-10257, RM-10259, RM-11285, and RM-11291, DA 14-1215]

Radio Broadcasting Services; Caseville, Harbor Beach, Lexington, and Pigeon, Michigan

AGENCY: Federal Communications Commission.

ACTION: Final rule; petitions for reconsideration.

SUMMARY: The Audio Division grants Petitions for Reconsideration filed by Edward Czelada (“Czelada”) and Sanilac Broadcasting Company (“Sanilac”) and reserves Channel 256A at Lexington, Michigan, for noncommercial educational (“NCE”) use because no other channels in the reserved FM band are available; and the channel would provide a first or second NCE service to more than 2,000 persons who constitute ten percent of the population within the allotment's 60 dBu contour. See also SUPPLEMENTARY INFORMATION.

DATES: Effective October 6, 2014.

FOR FURTHER INFORMATION CONTACT: Andrew J. Rhodes, Media Bureau, (202) 418-2180.

SUPPLEMENTARY INFORMATION: This is a synopsis of the Commission's Memorandum Opinion and Order, MB Docket Nos. 01-229 and 01-231; DA 14-1215, adopted August 21, 2014, and released August 22, 2014. The full text of this document is available for inspection and copying during normal business hours in the FCC Reference Information Center (Room CY-A257), 445 12th Street SW., Washington, DC 20554. The complete text of this document may also be purchased from the Commission's duplicating contractor, Best Copy and Printing, Inc., Portals II, 445 12th Street SW., Room CY-B402, Washington, DC 20554, telephone 1-800-378-3160 or bcpiweb.com.

The Report and Order in this consolidated proceeding, inter alia, allotted Channel 256A at Lexington, Michigan, on an unreserved basis in response to a Counterproposal filed by Czelada. See 71 FR 246, January 4, 2006. Czelada seeks reconsideration because the Report and Order was silent on his alternative request to reserve Channel 256A at Lexington for NCE use. Liggett Communications, a broadcast licensee that was not previously a party to this proceeding, expresses an interest in Channel 256A on an unreserved basis and argues that the channel should not be reserved for NCE use because Czelada had made “no showing” for the reservation.

In the Memorandum Opinion and Order, the staff takes three actions. First, although Czelada's Petition for Reconsideration was improperly addressed and was not received at the Office of the Secretary by the filing deadline, the staff, on its own motion, waives § 1.429(d) and (h) of the Commission's rules in order to reach the merits. Second, contrary to Leggett's contention, the staff finds that Czelada's reservation showing was sufficient and that the public interest would be served by reserving Channel 256A at Lexington for NCE use because the allotment would provide a first or second NCE service to 4,090 persons. Third, the staff concludes that Liggett's expression of interest in Channel 256A at Lexington is late filed and cannot be considered.

Although the Report and Order allotted Channel 256A at Lexington, Michigan, on an unreserved basis, we note that the channel was inadvertently removed. See 71 FR 76208, December 20, 2006. Accordingly, we add the channel and reserve it for NCE use.

The Commission will send a copy of the Memorandum Opinion and Order in a report to Congress and the Government Accountability Office pursuant to the Congressional Review Act, see 5 U.S.C. 801(a)(1)(A).

List of Subjects in 47 CFR Part 73

Radio, Radio broadcasting.

Federal Communications Commission.
Peter H. Doyle,
Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM allotments under Michigan, is amended by adding Lexington, Channel *256A.

[FR Doc. 2014-20961 Filed 9-2-14; 8:45 am]

BILLING CODE 6712-01-P